DEPARTMENT OF AGRICULTURE

Food Safety and Inspection Service

[Docket No. FSIS-2012-0030]

National Advisory Committee on Meat and Poultry Inspection

AGENCY: Food Safety and Inspection Service.

ACTION: Notice of Reestablishment of the U.S. Department of Agriculture National Advisory Committee on Meat and Poultry Inspection.

SUMMARY: The U.S. Department of Agriculture intends to reestablish the National Advisory Committee on Meat and Poultry Inspection. The purpose of the Committee is to provide advice to the Secretary of Agriculture concerning State and Federal programs with respect to meat, poultry, and processed egg products inspection, food safety, and other matters that fall with the scope of the Federal Meat Inspection Act (FMIA) and the Poultry Products Inspection Act (PPIA).

FOR FURTHER INFORMATION CONTACT: Ms. Sally Fernandez, Program Specialist, Office of Outreach, Employee Education and Training, Food Safety and Inspection Service (FSIS), telephone (202) 690-6524; Fax (202) 690-6519; email sally.fernandez@fsis.usda.gov.

SUPPLEMENTARY INFORMATION:

Background

Pursuant to the Federal Advisory Committee Act (FACA) (5 U.S.C. App.), notice is hereby given that the Secretary of Agriculture intends to reestablish the National Advisory Committee on Meat and Poultry Inspection for two years. The Committee provides advice and recommendations to the Secretary on meat and poultry inspection programs, pursuant to sections 7(c), 24, 301(a)(3), and 301(c) of the Federal Meat Inspection Act, 21 U.S.C. 607(c), 624, 645, 661(a)(3), and 661(c), and to sections 5(a)(3), 5(c), 8(b), and 11(e) of the Poultry Products Inspection Act, 21 U.S.C. 454(a)(3), 454(c), 457(b), and 460(e).

A copy of the current charter and other information about the committee can be found at http://www.fsis.usda.gov/About_FSIS/NACMPI_Charter/index.asp.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/.

Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC, on August 2, 2012.
Alfred V. Almanza,
Administrator.

[FR Doc. 2012-19311 Filed 8-6-12; 8:45 am]

BILLING CODE 3410-DM-P